DEPARTMENT OF LABOR

Employment and Training Administration

[TA-W-82,197; TA-W-82,197A]

Delta Air Lines, Inc., Reservation Sales and Customer Care Call Center, Seatac, WA; Delta Air Lines, Inc., Reservation Sales and Customer Care Call Center, Sioux City, IA; Notice of Revised Determination on Reconsideration

By application dated March 8, 2013, a State of Washington workforce official and three workers requested administrative reconsideration of the negative determination regarding workers' eligibility to apply for Trade Adjustment Assistance (TAA), applicable to workers and former workers of Delta Air Lines, Inc., Reservation Sales and Customer Care Call Center, Seatac, Washington (TA-W-82,197) and Delta Air Lines, Inc., Reservation Sales and Customer Care Call Center, Sioux City, Iowa (TA-W-82,197A) (collectively referred to as “the subject firm”). There are no on-site leased workers at the subject firm. The subject workers are engaged in employment related to the supply of call center services. The determination was issued on January 11, 2013. The Department's Notice of determination was published in the Federal Register on February 8, 2013 (78 FR 8591).

Based on a careful review of previously-submitted information and additional information received during the reconsideration investigation, the Department determines that the petitioning workers have met the statutory criteria for TAA.

The Department determines that a significant number or proportion of the workers at the subject firm have been partially or totally separated, or threatened with such separation.

The Department also determines that worker separations at the subject firm are related to a shift to foreign countries of a portion of the supply of services like or directly competitive with the call center services supplied by the subject workers, and that the shift in the supply of these services contributed importantly to worker separations at the subject firm.

For purposes of the Trade Act, as amended, the term contributed importantly means a cause which is important but not necessarily more important than any other cause.

Conclusion

After careful review, I determine that workers of Delta Air Lines, Inc., Reservation Sales and Customer Care Call Center, Seatac, Washington (TA-W-82,197) and Delta Air Lines, Inc., Reservation Sales and Customer Care Call Center, Sioux City, Iowa (TA-W-82,197A), who were engaged in employment related to the supply of call center services, meet the worker group certification criteria under Section 222(a) of the Act, 19 U.S.C. 2272(a). In accordance with Section 223 of the Act, 19 U.S.C. 2273, I make the following certification:

“All workers of Delta Air Lines, Inc., Reservation Sales and Customer Care Call Center, Seatac, Washington (TA-W-82,197) and Delta Air Lines, Inc., Reservation Sales and Customer Care Call Center, Sioux City, Iowa (TA-W-82,197A) who became totally or partially separated from employment on or after November 28, 2011, through two years from the date of certification, and all workers in the group threatened with total or partial separation from employment on the date of certification through two years from the date of certification, are eligible to apply for adjustment assistance under Chapter 2 of Title II of the Trade Act of 1974, as amended.”

Signed at Washington, DC, this 4th day of April, 2013.
Del Min Amy Chen,
Certifying Officer, Office of Trade Adjustment Assistance.

[FR Doc. 2013-08928 Filed 4-16-13; 8:45 am]

BILLING CODE 4510-FN-P